ENVIRONMENTAL PROTECTION AGENCY

[ER-FRL-6669-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050249, ERP No. D-BLM-L65488-ID, Cotterel Wind Power Project and Draft Resource Management Plan Amendment, To Build a 190-240 megawatt, Wind-Powered Electrical Generation Facility, Right-of-Way Application, City of Burley, Towns of Albion and Malta, Cassia County, ID.

Summary: EPA does not object to the proposed project.

Rating LO.

EIS No. 20050353, ERP No. D-FHW-C50014-NY, Willis Avenue Bridge Reconstruction, Proposing Reconstruction of 100-year old Willis Avenue Bridge over the Harem River between Manhattan and the Bronx, New York and Bronx Counties, NY.

Summary: EPA expressed environmental concerns about water quality impacts, and requested additional information be included in the final EIS to address this issue.

Rating EC2.

EIS No. 20050355, ERP No. D-COE-G32059-LA, Port of Iberia Project, To Determine the Feasibility of Deepening the Existing Navigation Channels between the POI and the Gulf of Mexico, Portions of the Gulf Intracoastal Waterway (GIWW) and Freshwater Bayou (FWB), LA.

Summary: EPA does not object to the proposed action.

Rating LO.

EIS No. 20050377, ERP No. D-COE-C39017-NY, Montuak Point Storm Damage Reduction Project, Proposed Reinforcement of an Existing Stone Revetment Wall, Suffolk County, NY.

Summary: EPA does not object to the preferred alternative, which will arrest the erosion with little environmental impact to the project area.

Rating LO.

Final EISs

EIS No. 20050205, ERP No. F-FRC-B03012-RI, KeySpan Liquefied Natural Gas (LNG) Facility Upgrade Project, Construction and Operation, and Algonquin Gas Transmission Project, Proposal for Site, Construct and Operate a New Natural Gas Pipeline, Coast Guard Permit, U.S. Army COE Section 10 and 404 Permits, Providence County, RI and New England.

Summary: EPA expressed environmental concerns about the potential need for additional air emission control measures on marine vessels, additional mitigation measures to address impacts from entrainment of fish, eggs, and larvae by ship ballast water intakes, and requested an opportunity for additional discussions about potential environmental justice impacts.

EIS No. 20050320, ERP No. F-AFS-J65426-UT, Wasatch Plateau Grazing Project, Proposal to Continue to Authorize Sheep Grazing by Issuance of a Term Grazing Permits on 31 Sheep Allotments, Manti-La Sal National Forest, Sanpete, Ferron and Price Ranger Districts, Sanpete, Carbon, Utah and Emery County, UT.

Summary: The FEIS addressed EPA's concerns with impact to water quality.

EIS No. 20050408, ERP No. F-FHW-F40432-WI, U.S. 41 Highway Corridor Project, Transportation Improvement between the Cities of Oconto and Perhtigo, Funding, Marinette and Oconto Counties, WI.

Summary: While EPA has no objection to the proposed action, it asked to be involved in planning the wetland restoration of the more than 300 acres required for compensatory mitigation.

EIS No. 20050449, ERP No. F-USN-E11054-FL, Navy Air-To-Ground Training at Avon Park Air Force Range, To Conduct Air-To-Ground Ordnance Delivery and Training, Fleet Forces Command's Fleet Readiness Training Program (FRTP), Polk and Highland Counties, FL.

Summary: EPA's previous concerns have been resolved; therefore, EPA has no objection to the proposed action.

Dated: November 15, 2005.
Elaine Suriano,
Environmental Scientist, Office of Federal Activities.

[FR Doc. 05-22887 Filed 11-17-05; 8:45 am]

BILLING CODE 6560-50-P